DEPARTMENT OF TRANSPORTATION

Federal Aviation Administration

14 CFR Part 39

[Docket No. 2003-NM-04-AD]

RIN 2120-AA64

Airworthiness Directives; Empresa Brasileira de Aeronautica S.A. (EMBRAER) Model EMB-135 and EMB-145 Series Airplanes

AGENCY: Federal Aviation Administration, DOT.

ACTION: Notice of proposed rulemaking (NPRM).

SUMMARY: This document proposes the adoption of a new airworthiness directive (AD) that is applicable to certain EMBRAER Model EMB-135 and EMB-145 series airplanes. This proposal would require a one-time inspection of the trailing arm cardan of each main landing gear (MLG) to identify a certain part number; a one-time inspection of certain trailing arm cardans to detect cracking, if necessary; and replacement of incorrect trailing arm cardans with cardans having a certain part number. This action is necessary to ensure that correct trailing arm cardans of the MLGs are installed. Installation of affected cardans could lead to accelerated fatigue cracking, which, if not detected and corrected in a timely manner, could cause the cardan(s) to fracture, resulting in consequent failure of the MLG(s). This action is intended to address the identified unsafe condition.

DATES: Comments must be received by April 16, 2003.

ADDRESSES: Submit comments in triplicate to the Federal Aviation Administration (FAA), Transport Airplane Directorate, ANM-114, Attention: Rules Docket No. 2003-NM-04-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-04-AD” in the subject line and need not be submitted in triplicate. Comments sent via the Internet as attached electronic files must be formatted in Microsoft Word 97 for Windows or ASCII text.

The service information referenced in the proposed rule may be obtained from Empresa Brasileira de Aeronautica S.A. (EMBRAER), P.O. Box 343—CEP 12.225, Sao Jose dos Campos—SP, Brazil. This information may be examined at the FAA, Transport Airplane Directorate, 1601 Lind Avenue, SW., Renton, Washington.

FOR FURTHER INFORMATION CONTACT: Robert D. Breneman, Aerospace Engineer, International Branch, ANM-116, Transport Airplane Directorate, FAA, 1601 Lind Avenue, SW., Renton, Washington 98055-4056; telephone (425) 227-1263; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-04-AD.” The postcard will be date stamped and returned to the commenter.

Availability of NPRMs

Any person may obtain a copy of this NPRM by submitting a request to the FAA, Transport Airplane Directorate, ANM-114, Attention: Rules Docket No. 2003-NM-04-AD, 1601 Lind Avenue, SW., Renton, Washington 98055-4056.

Discussion

The Departmento de Aviacao Civil (DAC), which is the airworthiness authority for Brazil, notified the FAA that an unsafe condition may exist on certain EMBRAER Model EMB-135 and EMB-145 series airplanes. The DAC advises that, during a sampling program, fatigue cracks were found on certain trailing arm cardans of the main landing gears (MLG). This condition, if not detected and corrected in a timely manner, could cause the cardan to fracture, resulting in consequent failure of the affected MLG.

Explanation of Relevant Service Information

EMBRAER has issued Alert Service Bulletin 145-32-A080, Change 01, dated August 22, 2002. This alert service bulletin describes procedures for a one-time detailed inspection to detect cracking of the trailing arm cardan of each MLG, and replacement of trailing arm cardans having part number (P/N) 2309-2041-001 with new cardans having P/N 2309-2041-401 or 2309-2041-003.

Alert Service Bulletin 145-32-A080, Change 01, refers to EMBRAER Service Bulletin 145-32-0035, Change 01, dated November 10, 1999, as an additional source of service information for replacement of subject trailing arm cardans with cardans having P/N 2309-2041-003.

Accomplishment of the actions specified in EMBRAER Alert Service Bulletin 145-32-A080, Change 01, dated August 22, 2002, is intended to adequately address the identified unsafe condition. The DAC classified EMBRAER Alert Service Bulletin 145-32-A080, Change 01, as mandatory and issued Brazilian emergency airworthiness directive 2002-08-01, dated August 28, 2002, in order to assure the continued airworthiness of these airplanes in Brazil.

FAA's Conclusions

These airplane models are manufactured in Brazil and are type certificated for operation in the United States under the provisions of section 21.29 of the Federal Aviation Regulations (14 CFR 21.29) and the applicable bilateral airworthiness agreement. Pursuant to this bilateral airworthiness agreement, the DAC has kept the FAA informed of the situation described above. The FAA has examined the findings of the DAC, reviewed all available information, and determined that AD action is necessary for products of these type designs that are certificated for operation in the United States.

Explanation of Requirements of Proposed Rule

Since an unsafe condition has been identified that is likely to exist or develop on other airplanes of the same type design registered in the United States, the proposed AD would require a one-time inspection of the trailing arm cardan of each MLG to identify cardans having a certain part number which are subject to accelerated fatigue cracking. For certain airplanes, this AD would also require a detailed inspection to detect cracking of the trailing arm cardan of each MLG, and replacement of the cardan with a new cardan. The detailed inspection and replacement would be required to be accomplished in accordance with EMBRAER Alert Service Bulletin 145-32-A080, Change 01, described previously.

Differences Between Proposed AD and Brazilian Airworthiness Directive

Operators should note that the applicability of the parallel Brazilian airworthiness directive affects, in part, Model EMB-135ER/LR and EMB-145 series airplanes equipped with certain MLG struts, except for certain struts modified by EMBRAER Service Bulletin 145-32-0035, original issue, or further revisions approved by the DAC. The affected trailing arm cardans (P/N 2309-2041-001) were originally installed during production only on airplanes having serial numbers (S/N) 145004 through 145087 inclusive. However, because MLGs are interchangeable on these airplane models, there is a possibility that airplanes having S/N 145001 through 145003 inclusive, and 145088 through 145617 inclusive, may have an MLG with the subject trailing arm cardan that was installed by operators during normal maintenance. Therefore, the applicability of this proposed AD includes airplanes having S/N 145001 through 145617 inclusive. We have determined that a one-time inspection of the trailing arm cardan of each MLG to identify affected cardans is necessary on those airplanes.

We have received verification that the affected cardans installed during production have already been removed from U.S.-registered airplanes and MLGs in stock. Therefore, we have extended the compliance time for this inspection (intended to also identify affected cardans installed during normal maintenance) to within 45 days after the effective date of this AD, instead of within 7 days, as required by the Brazilian airworthiness directive.

These issues have been coordinated and concurred with by the DAC.

Cost Impact

The FAA estimates that 401 Model EMB-135 and EMB-145 series airplanes of U.S. registry would be affected by this proposed AD, that it would take approximately 1 work hour per airplane to accomplish the proposed actions, and that the average labor rate is $60 per work hour. Based on these figures, the cost impact of the proposed AD on U.S. operators is estimated to be $24,060, or $60 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Empresa Brasileira de Aeronautica S.A. (EMBRAER): Docket 2003-NM-04-AD.

Applicability: Model EMB-135 and EMB-145 series airplanes having serial numbers (S/N) 145001 through 145617 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To ensure that correct trailing arm cardan of each main landing gear (MLG) are installed, accomplish the following:

Identification of Certain Part Number (P/N)

(a) Within 45 days after the effective date of this AD: Perform a one-time inspection of the trailing arm cardans of the MLGs to identify cardans having P/N 2309-2041-001.

Corrective Actions

(b) If any trailing arm cardan having P/N 2309-2041-001 is found installed during the inspection required by paragraph (a) of this AD: Prior to further flight, perform a detailed inspection to detect cracking of that trailing arm cardan of the MLG, per “Part I” of the Accomplishment Instructions of EMBRAER Alert Service Bulletin 145-32-A080, Change 01, dated August 22, 2002.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) If no cracking is detected: Within 60 days or 500 flight hours after the effective date of this AD, whichever occurs first, replace the trailing arm cardan of the MLG with a new cardan having P/N 2309-2041-401 or 2309-2041-003, per “Part II” of the Accomplishment Instructions of the alert service bulletin.

(2) If any cracking is detected: Prior to further flight, replace the trailing arm cardan of the MLG with a new cardan having P/N 2309-2041-401 or 2309-2041-003, per “Part II” of the Accomplishment Instructions of the alert service bulletin.

Note 3: EMBRAER Alert Service Bulletin 145-32-A080, Change 01, dated August 22, 2002, refers to EMBRAER Service Bulletin 145-32-0035, Change 01, dated November 10, 1999, as an additional source of service information for replacement of subject trailing arm cardans with cardans having P/N 2309-2041-003.

Previously Accomplished Inspection and Replacement

(c) Inspection and replacement accomplished prior to the effective date of this AD per EMBRAER Alert Service Bulletin 145-32-A080, dated August 16, 2002, are acceptable for compliance with the actions required by paragraph (b) of this AD.

Parts Installation

(d) As of the effective date of this AD, no person shall install a trailing arm cardan, P/N 2309-2041-001, on any airplane.

Alternative Methods of Compliance

(e) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 4: Information concerning the existence of approved alternative methods of compliance with this AD, if any, may be obtained from the International Branch, ANM-116.

Special Flight Permits

(f) Special flight permits may be issued in accordance with sections 21.197 and 21.199 of the Federal Aviation Regulations (14 CFR 21.197 and 21.199) to operate the airplane to a location where the requirements of this AD can be accomplished.

Note 5: The subject of this AD is addressed in Brazilian emergency airworthiness directive 2002-08-01, dated August 28, 2002.

Issued in Renton, Washington, on March 11, 2003.
Ali Bahrami,
Acting Manager, Transport Airplane Directorate, Aircraft Certification Service.

[FR Doc. 03-6259 Filed 3-14-03; 8:45 am]

BILLING CODE 4910-13-P